DEPARTMENT OF ENERGY

Federal Energy Regulatory Commission

18 CFR Part 358

[Docket No. RM18-10-000]

Petition for Rulemaking of Airlines for America and the National Propane Gas Association; Comment Request

AGENCY: Federal Energy Regulatory Commission, DOE.

ACTION: Petition for rulemaking.

SUMMARY: Take notice that on February 1, 2018, pursuant to the Federal Energy Regulatory Commission's (Commission) Rules of Practice and Procedure, Airlines for America and the National Propane Gas Association submit this Petition for Rulemaking (Petition), and respectfully request that the Commission issue a Notice of Proposed Rulemaking expanding its affiliate Standards of Conduct for Transmission Providers regulations to the crude oil, natural gas liquid, and petroleum product pipeline industry, as more fully explained in the petition.

DATES: Comments due 5:00 p.m. Eastern time on March 14, 2018.

ADDRESSES: The Commission encourages electronic submission of protests and interventions in lieu of paper using the “eFiling” link at http://www.ferc.gov. Persons unable to file electronically should submit an original and 5 copies of the protest or intervention to the Federal Energy Regulatory Commission, 888 First Street NE, Washington, DC 20426.

FOR FURTHER INFORMATION CONTACT: Derek L. Anderson, Office of the General Counsel, Federal Energy Regulatory Commission, 888 First Street NE, Washington, DC 20426, (202) 502-6266, Derek.Anderson@ferc.gov.

For assistance with any FERC Online service, please email FERCOnlineSupport@ferc.gov, or call (866) 208-3676 (toll free). For TTY, call (202) 502-8659.

SUPPLEMENTARY INFORMATION: Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

This filing is accessible on-line at http://www.ferc.gov, using the “eLibrary” link and is available for review in the Commission's Public Reference Room in Washington, DC. There is an “eSubscription” link on the website that enables subscribers to receive email notification when a document is added to a subscribed docket(s).

Dated: February 12, 2018.
Kimberly D. Bose,
Secretary.

[FR Doc. 2018-03249 Filed 2-16-18; 8:45 am]

BILLING CODE 6717-01-P